DEPARTMENT OF LABOR

Occupational Safety and Health Administration

[Docket No. OSHA-2017-0011]

Minnesota State Plan; Changes in Level of Federal Enforcement: Employment on Indian Reservations and Twin Cities Army Ammunition Plant, and Coverage Clarifications

AGENCY: Occupational Safety and Health Administration (OSHA), Department of Labor.

ACTION: Notice.

SUMMARY: This document gives notice of OSHA's approval of changes to the State of Minnesota's Occupational Safety and Health State Plan that specify that non-Indian private- sector employment within an Indian reservation or on lands held in trust by the Federal Government, and employment on land formerly occupied by the Twin Cities Army Ammunition Plant, are included in its State Plan, and that make other minor coverage clarifications.

DATES: Applicable Date: December 12, 2017.

FOR FURTHER INFORMATION CONTACT: For press inquiries, contact Francis Meilinger, Director, OSHA Office of Communications, U.S. Department of Labor; telephone: (202) 693-1999; email: meilinger.francis2@dol.gov.

For general and technical information, contact Douglas J. Kalinowski, Director, OSHA Directorate of Cooperative and State Programs, U.S. Department of Labor; telephone: (202) 693-2200; email: kalinowski.doug@dol.gov.

SUPPLEMENTARY INFORMATION: Section 18 of the Occupational Safety and Health Act of 1970, 29 U.S.C. 667 (OSH Act), provides that States that wish to assume responsibility for developing and enforcing their own occupational safety and health standards may do so by submitting and obtaining federal approval of a State Plan. State Plan approval occurs in stages that include initial approval under Section 18(c) of the Act and, ultimately, final approval under Section 18(e).

The Minnesota State Plan was initially approved under Section 18(b) of the OSHA Act. 38 FR 15077 (June 8, 1973). The State Plan later received final approval. 50 FR 30832 (July 30, 1985). The Minnesota State Plan is administered by the Minnesota Department of Labor and Industry, Minnesota Occupational Safety and Health Administration (MNOSHA). Under the Plan, MNOSHA covers state and local government employers and private-sector employers with certain exceptions. Originally, one of the exceptions was employment at the Twin Cities Army Ammunition Plant, which Federal OSHA covered because the United States had exclusive federal jurisdiction over the site. 50 FR 30832 (July 30, 1985). Later, another exception was added for tribal and private-sector employment within any Indian reservation in the State, which Federal OSHA also covered. 61 FR 36824 (July 15, 1996).

With the decommissioning and removal of the Twin Cities Army Ammunition Plant, MNOSHA requested that the exception to the State Plan's coverage for the plant be eliminated. The land on which the plant stood was transferred to the county and as such, private-sector employment on this land would fall under the State Plan's area of coverage. However, Federal OSHA continues to cover employment on land adjacent to the land transferred to the county because that adjacent land continues to be under exclusive federal jurisdiction. Federal OSHA granted this request.

MNOSHA also requested that the exception to the State Plan for tribal and private-sector employment on Indian reservations and lands held in trust by the Federal Government be changed so that MNOSHA could cover non-Indian private-sector employment in these areas. Federal OSHA continues to cover establishments owned or operated by Indian tribes or by enrolled members of Indian tribes. This approach to coverage is consistent with case law on federal and state authority over Indian lands. Federal OSHA granted this request.

These changes are reflected on the Federal OSHA web page for MNOSHA, http://www.osha.gov/dcsp/osp/stateprogs/minnesota.html. In addition, that web page was updated to include two longstanding coverage features of the Minnesota State Plan which are also common to other State Plans. 50 FR 30832 (July 30, 1985). Federal OSHA covers any hazard, industry, geographical area, operation or facility over which the State is unable to effectively exercise jurisdiction for reasons unrelated to the required performance or structure of the plan. Federal OSHA also covers Federal Government employers. Additionally, Federal OSHA covers the United States Postal Service (USPS). 65 FR 36622 (June 9, 2000).

Authority and Signature

Loren Sweatt, Deputy Assistant Secretary of Labor for Occupational Safety and Health, U.S. Department of Labor, authorized the preparation of this notice. OSHA is issuing this notice under the authority specified by section 18 of the Occupational Safety and Health Act of 1970 (29 U.S.C. 667), Secretary of Labor's Order No. 1-2012 (77 FR 3912), and 29 CFR parts 1902 and 1953.

Signed in Washington, DC, on December 1, 2017.
Loren Sweatt,
Deputy Assistant Secretary of Labor for Occupational Safety and Health.

[FR Doc. 2017-26676 Filed 12-11-17; 8:45 am]

BILLING CODE 4510-26-P